DEPARTMENT OF AGRICULTURE

Submission for OMB Review; Comment Request

August 7, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Pima Agriculture Cotton Trust Fund

OMB Control Number: 0551-0044

Summary of Collection: Section 12314 of the Agricultural Act of 2014 (Pub. L. 113-79) authorizes distribution out of the Pima Agriculture Cotton Trust Fund in each of calendar years 2014 through 2018, payable to qualifying claimants. The Trust Fund is comprised of funds transferred from the Commodity Credit Corporation in annual amounts equal to $16,000,000 for each of calendar years 2014 through 2018, to remain available until expanded. The purpose of the Trust fund is to reduce the injury to domestic manufacturers resulting from tariffs on cotton fabric that are higher than tariffs on certain apparel articles made of cotton fabric.

Need and Use of the Information: Distributions out of the Trust Fund is payable to (1) One or more nationally recognized associations established for the promotion of pima cotton for use in textile and apparel goods; (2) yarn spinners of pima cotton that produce ring spun cotton yarns in the United States; and (3) manufacturers who cut and sew cotton shirts in the United States who certify that they used imported cotton fabric during calendar year 2013. Eligible claimants for a distribution from the Pima Cotton Trust Fund are directed to submit a notarized affidavit. The Foreign Agriculture Service (FAS) will use the information provided in the affidavits to certify the claimants' eligibility and to authorize payment from the Pima Cotton Trust Fund. If eligible claimants do not submit an affidavit with the required information they will not be entitled to a distribution from the Pima Cotton Trust Fund.

Description of Respondents: Business or other-for-profit

Number of Respondents: 7

Frequency of Responses: Recordkeeping, Reporting: Annually

Total Burden Hours: 14

Ruth Brown,
Departmental Information Collection Clearance Officer.

[FR Doc. 2014-19109 Filed 8-12-14; 8:45 am]

BILLING CODE 3410-10-P